DEPARTMENT OF HOMELAND SECURITY

Office of the Secretary

National Infrastructure Protection Plan

AGENCY: Office of the Assistant Secretary for Infrastructure Protection, Department of Homeland Security.

ACTION: Notice of availability.

SUMMARY: The purpose of this notice is to inform the public and interested security partners that the draft National Infrastructure Protection Plan (NIPP) Base Plan is available for review and comment. The Department of Homeland Security (DHS) is responsible for developing this comprehensive, integrated national plan for the protection of the Nation's critical infrastructure and key resources under the authority of Homeland Security Presidential Directive-7 (HSPD-7), Critical Infrastructure Identification, Prioritization, and Protection.

ADDRESSES: If you would like to review the draft NIPP Base Plan and provide comments, please submit a request to DHS via one of the following methods:

• E-mail to: NIPP@dhs.gov.

• Mail: NIPP Program Management Office, Department of Homeland Security, Preparedness Directorate/IP/IPD, Mail Stop 8560, Washington, DC 20528-8560.

Please include your name, organization, mailing address, and e-mail address when submitting your request.

FOR FURTHER INFORMATION CONTACT: National Infrastructure Protection Plan: Charles Davis, NIPP Program Management Office, Preparedness Directorate/IP/IPD, Department of Homeland Security, Washington, DC 20528, 703-235-5338 or Charles.H.Davis@dhs.gov.

DATES: The draft National Infrastructure Protection Plan will become available on November 2, 2005. All requests for copies must be made within 15 days of this notice. Comments on the document should be submitted to DHS by December 5, 2005.

SUPPLEMENTARY INFORMATION: Protecting critical infrastructures and key resources from attack is vital to the Nation. Through HSPD-7, the President directed the Secretary of Homeland Security to produce a comprehensive, integrated national plan for the protection of critical infrastructures and key resources. On February 9, 2005, DHS released an interim version of the NIPP Base Plan. Since that time, DHS has been working to revise the NIPP Base Plan to provide further detail regarding the framework for protecting the Nation's infrastructure and setting the direction for implementing a coordinated, national effort. At this time, DHS is seeking comments from the public on the draft NIPP Base Plan. Anyone interested in reviewing the draft NIPP Base Plan can obtain a copy by forwarding a request to DHS following the steps described under Addresses above. All such requests must be received within 15 days of the date of publication of this notice in the Federal Register. Following receipt of your request for review, DHS will forward a copy of the draft NIPP Base Plan along with instructions on how to submit comments.

Bob Stephan,
Assistant Secretary for Infrastructure Protection.

[FR Doc. 05-21984 Filed 11-2-05; 8:45 am]

BILLING CODE 4410-10-P